DEPARTMENT OF HOMELAND SECURITY

Coast Guard

33 CFR Part 165

[Docket No. USCG-2017-0631]

Safety Zone; Annual Events Requiring Safety Zones in the Captain of the Port Lake Michigan Zone-Sturgeon Bay Yacht Club Evening on the Bay Fireworks

AGENCY: Coast Guard, DHS.

ACTION: Notice of enforcement of regulation.

SUMMARY: The Coast Guard will enforce the safety zone for the Sturgeon Bay Yacht Club Evening on the Bay Fireworks on the Sturgeon Bay Ship Canal in Sturgeon Bay, WI from 8:30 p.m. through 10:30 p.m. on August 12, 2017. This action is necessary and intended to ensure safety of life on navigable waters immediately prior to, during, and after the fireworks display. During the enforcement period, entry into, transiting, or anchoring within the safety zone is prohibited unless authorized by the Captain of the Port Lake Michigan or a designated on-scene representative.

DATES: The regulations in 33 CFR 165.929 will be enforced for the safety zone listed in item (f)(4) of Table 165.929 from 8:30 p.m. through 10:30 p.m. on August 12, 2017.

FOR FURTHER INFORMATION CONTACT: If you have questions about this notice of enforcement, call or email marine event coordinator, MST1 Kaleena Carpino, Prevention Department, Coast Guard Sector Lake Michigan, Milwaukee, WI; telephone (414) 747-7148, email D09-SMB-SECLakeMichigan-WWM@uscg.mil.

SUPPLEMENTARY INFORMATION: The Coast Guard will enforce the Sturgeon Bay Yacht Club Evening on the Bay Fireworks safety zone listed as item (f)(4) in Table 165.929 of 33 CFR 165.929 from 8:30 p.m. through 10:30 p.m. on August 12, 2017 on all waters of the Sturgeon Bay Ship Canal within the arc of a circle with a 500-foot radius from a center point launch position at 44°49.297′ N., 087°21.447′ W. (NAD 83).

Entry into, transiting, or anchoring within the safety zone is prohibited unless authorized by the Captain of the Port Lake Michigan or a designated on-scene representative. The Captain of the Port Lake Michigan or a representative may be contacted at 414-747-7182 or via Channel 16, VHF-FM.

This notice of enforcement is issued under authority of 33 CFR 165.929, Safety Zones; Annual events requiring safety zones in the Captain of the Port Lake Michigan zone, and 5 U.S.C. 552(a). In addition to this publication in the Federal Register, the Coast Guard plans to provide the maritime community with advance notification for the enforcement of this safety zone via Broadcast Notice to Mariners or Local Notice to Mariners. The Captain of the Port Lake Michigan or a representative may be contacted at 414-747-7182 or via Channel 16, VHF-FM.

Dated: July 6, 2017.
A.B. Cocanour,
Captain, U.S. Coast Guard, Captain of the Port Lake Michigan.

[FR Doc. 2017-14688 Filed 7-12-17; 8:45 am]

BILLING CODE 9110-04-P